DEPARTMENT OF ENERGY

Western Area Power Administration

2015 Resource Pool

AGENCY: Western Area Power Administration, DOE.

ACTION: Notice of Proposed 2015 Resource Pool Size and Revised Eligibility Criteria.

SUMMARY: The Western Area Power Administration (Western), a Federal power marketing administration of the U.S. Department of Energy (DOE), published its 2004 Power Marketing Plan (Marketing Plan) for Western's Sierra Nevada Customer Service Region (SNR) in the Federal Register on June 25, 1999 (64 FR 34417). The Marketing Plan specifies the terms and conditions under which Western will market power from the Central Valley Project (CVP) and the Washoe Project beginning January 1, 2005, and continuing through December 31, 2024. The Marketing Plan provides for a 2015 Resource Pool of up to 2 percent of SNR's marketable power resources. The 2015 Resource Pool will be available for power allocations to preference entities that meet the Eligibility Criteria. This notice begins the public process to establish the resources available and to revise the Eligibility Criteria provided in the Marketing Plan for the 2015 Resource Pool. Once Western establishes the final amount of power to be made available under the 2015 Resource Pool and the associated Eligibility Criteria, preference entities who wish to apply for an allocation of power from SNR must submit formal applications in response to Western's Call for 2015 Resource Pool Applications to be published under a separate notice.

DATES: Entities interested in submitting comments on Western's Proposed 2015 Resource Pool size and revised Eligibility Criteria must submit comments to the SNR office at the address below. To ensure consideration, comments must be received by the end of the comment period which closes at 4 p.m. PST on July 7, 2008. The public comment forum date is: May 21, 2008, 1 p.m. PST, Folsom, CA. Please refer to Western's Web page http://www.wapa.gov/sn/marketing/2015ResourcePool.asp for additional information including updates to the date, time, and location of the forum.

ADDRESSES: Western will hold the public comment forum at the Lake Natoma Inn, 702 Gold Lake Drive, Folsom, CA. Written comments can be mailed to Ms. Sonja A. Anderson, Power Marketing Manager, Sierra Nevada Region, Western Area Power Administration, 114 Parkshore Drive, Folsom, CA 95630-4710, e-mail sanderso@wapa.gov. Oral comments must be presented at the public comment forum which will be held on May 21, 2008.

FOR FURTHER INFORMATION CONTACT: Ms. Jeanne Haas, Power Contracts and Energy Services Manager, Sierra Nevada Customer Service Region, Western Area Power Administration, 114 Parkshore Drive, Folsom, CA 95630-4710, telephone (916) 353-4438, e-mail haas@wapa.gov.

SUPPLEMENTARY INFORMATION:

Background

The Marketing Plan provides that, effective January 1, 2015, Western will reduce all Customers' allocations by up to 2 percent to establish a 2015 Resource Pool. In addition, the Marketing Plan explains that as a result of a settlement, the Sacramento Municipal Utility District (SMUD) did not contribute to the 2005 Resource Pool. Beginning in 2015, SMUD's percentage will be adjusted pursuant to the Marketing Plan to be consistent with all other Existing Customers, and the percentage it did not provide to the 2005 Resource Pool will be included in the 2015 Resource Pool. Western is starting the public process for the allocation of the 2015 Resource Pool now to ensure that Customers have adequate time to secure power and delivery arrangements to start on January 1, 2015.

CVP power facilities include 11 powerplants with a maximum operating capability of about 2,044 megawatts (MW) and an estimated average annual generation of 4.6 million megawatthours (MWh). Western markets and transmits the power available from the CVP.

The Washoe Project's Stampede Powerplant has a maximum operating capability of 3.65 MW with an estimated annual generation of 10,000 MWh. The Sierra Pacific Power Company owns and operates the only transmission system available for access to the Stampede Powerplant.

Western owns the 94 circuit-mile Malin-Round Mountain, 500-kilovolt (kV) Transmission Line (an integral section of the Pacific Northwest-Pacific Southwest Alternating Current Intertie), 803 circuit miles of 230-kV transmission line, 7 circuit miles of 115-kV transmission line, and 44 circuit miles of 69-kV and below transmission line. Western also has part ownership in the 342-mile California-Oregon Transmission Project and owns the 84-mile Path 15 Upgrade Project. Many of Western's Customers have no direct access to Western's transmission lines and receive service over transmission lines owned by other utilities.

The Marketing Plan describes how SNR will market its power resources beginning January 1, 2005, through December 31, 2024. The Marketing Plan requires Western to establish a Resource Pool and to reallocate an amount of power for the period of January 1, 2015, through December 31, 2024. This public process will determine the exact amount of power Western will reallocate and revises the Eligibility Criteria the entities must meet to qualify for an allocation of power from Western during this period. After or simultaneous to publishing its final decision on the 2015 Resource Pool size and revised Eligibility Criteria, Western will publish a Call for 2015 Resource Pool Applications in this Federal Register notice which will begin the formal allocation process. The Marketing Plan will continue in full force and effect and will govern the formal allocation process. However, Western will apply the revised Eligibility Criteria developed through this process for the 2015 Resource Pool. Entities interested in an allocation of power from SNR must apply pursuant to the Call for 2015 Resource Pool Applications.

Acronyms and Definitions

CRD: Contract Rate of Delivery: The maximum amount of capacity made available to a Customer for a period specified under a contract.

Customer: A preference customer who has a contract to purchase power under the Marketing Plan.

Eligibility Criteria: Conditions that must be met to qualify for an allocation.

Existing Customer: A preference customer who had a contract to purchase firm power offered under a previous allocation process or Marketing Plan that extended through December 31, 2004. Note: the definition includes those entities who succeeded in interest to an Existing Customer; e.g., if Western approved the assignment of an Existing Customer's Federal power allocation to another preference customer, the assigned Federal power falls within the definition.

Extension CRD: An Existing Customer's CRD exclusive of diversity and curtailable power and peaking/excess capacity, as it may be adjusted in accordance with the Marketing Plan.

2015 Resource Pool Size

As described in the Marketing Plan, effective January 1, 2015, Western will recalculate the percentages of all Customers. For the period of January 1, 2015, through December 31, 2024, Western will derive each Customer's new percentage in the manner described below.

Pursuant to the procedures established in the Marketing Plan, Western will determine the amount of Federal resources available for the 2015 Resource Pool in the following steps:

1. Western will adjust SMUD's allocation to be consistent with the other Existing Customers. In other words, the Marketing Plan requires Western to adjust SMUD's Base Resource percentages to equal what SMUD would have been required to contribute to the 2005 Resource Pool. Western will then adjust the ratio of each Existing Customer's Extension CRD to the total of all Existing Customers' Extension CRD. This step reflects what each Existing Customer's allocation percentage would have been beginning January 1, 2005, if not for the Settlement Agreement with SMUD. Beginning January 1, 2015, SMUD will be treated as, and included with, all of the Existing Customers.

2. Once the Existing Customers' allocation percentages have been adjusted as indicated in paragraph 1 above, Western will then reduce each Existing Customer's right to purchase the Base Resource by 4 percent. This step reflects the amount that the Existing Customers would have been required to contribute to the 2005 Resource Pool if not for the Settlement Agreement with SMUD.

3. Finally, Western proposes to reduce all Customers' right to purchase the Base Resource by an additional 2 percent to create the 2015 Resource Pool. To clarify, this 2 percent reduction applies to all Customers, including those that received an allocation under the Marketing Plan through the 2005 Resource Pool.

The Marketing Plan provides for Western to reduce all Customers' allocations by up to 2 percent. Western is proposing to reduce all Customers' Base Resource percentage by 2 percent to provide for a 2015 Resource Pool sufficient to promote wide-spread use of Federal power. Through this Federal Register notice, Western is seeking comments on the proposed 2 percent reduction in its Customers' allocations.

Revised Eligibility Criteria

The Marketing Plan established Eligibility Criteria to apply to all applicants seeking a resource pool allocation, including the following:

Existing Customers may apply for a resource pool allocation if their Extension CRD, set forth in Appendix A [of the Marketing Plan Federal Register 64 FR 34417], is not more than 15 percent of their peak load in the calendar year prior to the Call for Applications, and not more than 10 MW.

Western is proposing to delete the paragraph above from its Eligibility Criteria. Western believes that this criterion may be too restrictive to ensure full subscription of its resources. Further, the 2015 Resource Pool is based on a percentage of the Base Resource. The 2005 Resource Pool was determined from an Extension CRD which is no longer applicable. Western seeks comments on the change it is proposing to the Eligibility Criteria applicable under the Marketing Plan for applicants seeking an allocation of the 2015 Resource Pool.

Proposed 2015 Resource Pool Size and Revised Eligibility Criteria

The proposed 2015 Resource Pool size and revised Eligibility Criteria are preliminary and may be changed based on comments received. This Federal Register notice formally requests comments related to Western's proposals. Western will respond to comments received on the 2015 Resource Pool size and revised Eligibility Criteria and publish its final decision on the 2015 Resource Pool size and revised Eligibility Criteria after the end of the public comment period. After, or simultaneous to, publishing its final decision on the 2015 Resource Pool size and revised Eligibility Criteria, Western will publish a Call for Application in the Federal Register which will begin the formal allocation process. The Marketing Plan will continue in full force and effect and will govern the formal allocation process. However, Western will apply the revised Eligibility Criteria developed through this process for the 2015 Resource Pool.

Authorities

The Marketing Plan for marketing power by SNR after 2004, published in the Federal Register (64 FR 34417) on June 25, 1999, was established pursuant to the Department of Energy Organization Act (42 U.S.C. 7101-7352); the Reclamation Act of June 17, 1902 (ch. 1093, 32 Stat. 388), as amended and supplemented by subsequent enactments, particularly section 9(c) of the Reclamation Project Act of 1939 (43 U.S.C. 485(c)); and other acts specifically applicable to the projects involved. This action falls within the Marketing Plan and, thus, is covered by the same authority.

Regulatory Procedure Requirements

Environmental Compliance

In compliance with the National Environmental Policy Act of 1969 (NEPA) (42 U.S.C. 4321, et seq.); the Council on Environmental Quality Regulations for implementing NEPA (40 CFR parts 1500-1508); and DOE NEPA implementing regulations (10 CFR part 1021), Western completed an environmental impact statement (EIS) on its Energy Planning and Management Program. The Record of Decision was published in the Federal Register (60 FR 53181, October 12, 1995). Western also completed the 2004 Power Marketing Program EIS (2004 EIS), and the Record of Decision was published in the Federal Register (62 FR 22934, April 28, 1997). The Marketing Plan falls within the range of alternatives considered in the 2004 EIS. This NEPA review identified and analyzed environmental effects related to the Marketing Plan. This action falls within the Marketing Plan and, thus, is covered by the 2004 EIS.

Determination Under Executive Order 12866

Western has an exemption from centralized regulatory review under Executive Order 12866; accordingly, no clearance of this notice by the Office of Management and Budget is required.

Dated: April 22, 2008.
Timothy J. Meeks,
Administrator.

[FR Doc. E8-9816 Filed 5-2-08; 8:45 am]

BILLING CODE 6450-01-P